DEPARTMENT OF COMMERCE

[Docket No. 220814-0134]

Privacy Act of 1974; System of Records

AGENCY: U.S. Department of Commerce, U.S. Census Bureau.

ACTION: Notice of a modified privacy act system of records.

SUMMARY: In accordance with the Privacy Act of 1974, as amended (Privacy Act) and Office of Management and Budget (OMB) Circular A-108, “Federal Agency Responsibilities for Review, Reporting, and Publication Under the Privacy Act,” the Department of Commerce (Department) is issuing this notice of intent to modify a system of records, COMMERCE/CENSUS-7, Special Censuses of Population Conducted for State and Local Government.

DATES: This amended system of records will become effective upon publication, subject to a 30-day comment period in which to comment on new or amended routine uses. To be considered, written comments must be submitted on or before August 31, 2022.

ADDRESSES: Please address comments to: Byron Crenshaw, Privacy Compliance Branch, Room 8H021, U.S. Census Bureau, Washington, DC 20233-3700; telephone (301) 763-7997; or by email, Byron.Crenshaw@census.gov.

FOR FURTHER INFORMATION CONTACT: Chief, Privacy Compliance Branch, Policy Coordination Office, Room 8H021, U.S. Census Bureau, Washington, DC 20233-3700 or by email, Byron.Crenshaw@census.gov.

SUPPLEMENTARY INFORMATION: This update makes seven program-related changes. The first proposed change to program-related provisions revises the name, purpose, and authority for maintenance of the system of records. This update is a result of a re-alignment of the U.S. Census Bureau's (Census Bureau) systems of records and differentiates the records maintained in this system of records from records maintained by COMMERCE/CENSUS-3, Demographic Survey Collection (Census Bureau Sampling Frame) (name change from COMMERCE/CENSUS-3, Special Censuses, Surveys, and Other Studies, pending publication in the Federal Register). Demographic reimbursable surveys that use a sponsor's sampling frame are maintained in this system of records, which is re-named as COMMERCE/CENSUS-7, Demographic Survey Collection (Non-Census Bureau Sampling Frame) (name change from COMMERCE/CENSUS-7, Special Censuses of Population Conducted for State and Local Government pending in the Federal Register). The authority for this system of records is revised to cite 13 U.S.C 8(b). The second proposed change updates the categories of individuals in the system to include households and individuals from the U.S. population for surveys maintained in this system of records, and individuals participating in tests, focus groups, and cognitive interviews. Data collected directly from respondents may be supplemented with data from administrative records (including third-party entities) covered by COMMERCE/CENSUS-8, Statistical Administrative Records System. The third proposed change updates the categories of records in the system to provide new detail about the information in the categories including the collection of: Field Representative (FR) and interviewer characteristics, auxiliary data known as paradata, Global Positioning System coordinates, internet protocol (IP) address, mobile device identification, and record identification number in the other information category; the telephone number, email address or equivalent (such as social media screen name) in the respondent contact information category; the date of birth, place of birth, gender, race, age, ethnicity, household and family characteristics, birth expectations, mobility status, citizenship, education, marital status, tribal affiliation, veteran status, and disability status in the demographic information category; the address and geographic codes in the geographical information category; the health problems, type of provider, services provided, cost of services, and quality indicators in the health information category; the income, occupation, employment and unemployment information, health insurance coverage, federal and state program participation, assets and wealth in the economic information category; the commuting, travel, childcare, recreation, community service, and drug and alcohol use in the activity and event related information category; the business name, revenues, and number of employees in the business information category. The fourth proposed change describes the categories of sources of records in the system, which include the subject individuals of surveys, tests, focus groups, cognitive interviews and administrative records. The fifth proposed change updates the policies and practices for storing, retaining, and disposing the records in the system to include recordings of surveys, focus groups, and cognitive interviews. The sixth proposed change updates the policies and practices for retrieval of the records to show linkages between systems of records covered by COMMERCE/CENSUS-3, Demographic Survey Collection (Census Bureau Sampling Frame) (name change from COMMERCE/CENSUS-3, Special Censuses, Surveys, and Other Studies pending publication in the Federal Register); COMMERCE/CENSUS-4, Economic Survey Collection; COMMERCE/CENSUS-5, Decennial Census Programs; COMMERCE/CENSUS-8, Statistical Administrative Records System; COMMERCE/CENSUS-9, Longitudinal Employer-Household Dynamics System; COMMERCE/CENSUS-12, Foreign Trade Statistics; and this system of records for approved special research projects with limited access. The seventh proposed change updates the routine uses to clarify that certain individuals (designated as Special Sworn Status individuals) authorized by Title 13 have access to this system of records. Special Sworn Status individuals are subject to the same confidentiality requirements as regular Census employees. This modification also provides minor administrative updates, including non-substantive changes to the description of routine uses of records maintained in the system. This notice does not contain any newly proposed or significantly modified routine uses.

The changes are being made in accordance with OMB Circular A-108 which requires agencies to periodically review system of records notices for accuracy and completeness, paying special attention to changes in the manner in which records are organized, indexed or retrieved that results in a change in the nature or scope of these records; and the Privacy Act, which requires agencies to publish in the Federal Register a notice that describes the changes to the system of records.

The Privacy Act also requires each agency that proposes to establish or significantly modify a system of records to provide adequate advance notice of any such proposal to the OMB, the Committee on Oversight and Reform of the House of Representatives, and the Committee on Homeland Security and Governmental Affairs of the Senate (5 U.S.C. 552a(r)). Significant modifications include adding a new routine use. The purpose of providing the advance notice to OMB and Congress is to permit an evaluation of the potential effect of the proposal on the privacy and other rights of individuals. The Department filed a report describing the modified system of records covered by this notice with the Chair of the Senate Committee on Homeland Security and Governmental Affairs, the Chair of the House Committee on Oversight and Reform, and the Deputy Administrator of the Information and Regulatory Affairs, OMB on June 22, 2022.

SYSTEM NAME AND NUMBER:

COMMERCE/CENSUS-7, Demographic Survey Collection (Non-Census Bureau Sampling Frame)

SECURITY CLASSIFICATION:

None.

SYSTEM LOCATION:

Bowie Computer Center, U.S. Census Bureau, 17101 Melford Blvd., Bowie, Maryland 20715; U.S. Census Bureau, National Processing Center, 1201 East 10th Street, Jeffersonville, Indiana 47103; National Archives and Records Administration, Washington National Records Center, Washington, DC 20409.

SYSTEM MANAGER(S):

Associate Director for Demographic Programs, U.S. Census Bureau, 4600 Silver Hill Road, Washington, DC 20233-8000.

AUTHORITY FOR MAINTENANCE OF THE SYSTEM:

13 U.S.C. 8(b) provides the authority for the Census Bureau to conduct statistical surveys for other agencies.

PURPOSE(S) OF THE SYSTEM:

The purpose of this system of records is for the Census Bureau to collect statistical information from respondents through survey instruments or other means and to conduct methodological research on improving various aspects of surveys authorized by 13 U.S.C. 8(b) such as: survey sampling frame design; sample selection algorithms; questionnaire development, design, and testing; usability testing of computer software and equipment; post data collection processing; data quality review; and non-response research. The statistical information is collected for other agencies (including, but not limited to, other Federal agencies, state and local governments), where the sample is obtained from non-Census Bureau sources (including, but not limited to, another agency's sample universe).

CATEGORIES OF INDIVIDUALS COVERED BY THE SYSTEM:

This system of records covers all individuals sampled for Census Bureau demographic reimbursable surveys that use a sponsor's sampling frame. Survey respondents typically are individuals aged 15 years old or over. Data collected directly from respondents may be supplemented with data from administrative record files received from other Federal, state, or local agencies, or third-party entities (including commercial sources). These administrative record files are collected and processed under the Statistical Administrative Records System. Please see COMMERCE/CENSUS-8, Statistical Administrative Records System for more information. Additionally, subjects of tests, focus groups and cognitive interviews (to test understanding of a new survey form, for example) that use a sponsor's or non-Census Bureau sampling frame are maintained in this system of records.

CATEGORIES OF RECORDS IN THE SYSTEM:

Records in this system of records consist of working statistical files (i.e., those files being analyzed to produce survey results), survey data files (i.e., those files containing answers directly from the respondent), and/or data contact files (i.e., those files used for contacting respondents). Records in this system of records may contain information such as: Respondent contact information—telephone number, email address or equivalent (such as social media screen name), etc.; Demographic information—date of birth, place of birth, gender, race, ethnicity, household and family characteristics, birth expectations, mobility status, citizenship, education, marital status, tribal affiliation, veteran status, disability status, etc.; Geographical information—address and geographic codes; Health information—health problems, type of provider, services provided, cost of services, quality indicators, etc.; Economic information—income, occupation, employment and unemployment information, health insurance coverage, federal and state program participation, assets and wealth, etc.; Activity and event related information—commuting, travel, childcare, recreation, community service, and drug and alcohol use, etc.; Processing Information: Field Representative (FR) related information-Census Bureau FR code, which is used only as an administrative control item for each record. Also, records collected by surveys, cognitive interviews, and pilot tests may collect other information including: Global Positioning System (GPS) coordinates, internet protocol (IP) address, mobile device identification, and record identification number. GPS coordinates, IP addresses, and mobile device identification may be collected when a mobile device is used to respond to surveys collected under Title 13 maintained in this system of records. Auxiliary data known as paradata may also be collected and used to evaluate and manage the survey process. Paradata maintained in this system of records includes method of interview; time and date stamps; audit trail and trace files; item non-response, refusals, deletion changes, and don't know responses; etc. Access to paradata by survey sponsors is governed by agreements in place; any paradata provided to survey sponsors will be stripped of all personally identifiable information of Census Bureau staff.

Another category of records contains two types of records that are maintained in unique data sets that are extracted or combined on an as-needed basis using the unique non-identifying codes but with some name information retained. One type of record contains: Business information—business name, revenues, number of employees, and industry codes in support of economic statistical products. The other type contains: Respondent contact information—name, address, telephone number, age, and sex in support of survey and census data collection efforts. Records in this system of records may be supplemented with datasets covered by COMMERCE/CENSUS-8, Statistical Administrative Records System. However, for limited short-term projects, some records obtained from datasets maintained in COMMERCE/CENSUS-8, Statistical Administrative Records System, may contain some direct identifiers (such as name, Social Security Number (SSN)) that have been retained in working statistical files for this collection.

RECORD SOURCE CATEGORIES:

In general, the records in this system come from subject individuals covered by agency surveys that use the Census Bureau to collect their information and subjects of tests, focus groups, and cognitive interviews. Information on subject individuals for this system of records may also come from files collected and processed under the Statistical Administrative Records System. These administrative record files are obtained from federal, state, and local agencies and third-party entities (e.g., commercial sources). Federal agency sources include: the Departments of Agriculture, Education, Health and Human Services, Homeland Security, Housing and Urban Development, Labor, Treasury, Veterans Affairs, and from the Office of Personnel Management, the Social Security Administration, the Selective Service System and the U.S. Postal Service, etc. Please see COMMERCE/CENSUS-8, Statistical Administrative Records System, for more information.

ROUTINE USES OF RECORDS MAINTAINED IN THE SYSTEM, INCLUDING CATEGORIES OF USERS AND THE PURPOSES OF SUCH USES:

There are no routine uses for this system of records. A routine use is describing the sharing of data with a third-party. Because the data under this SORN are covered under the protection of Title 13 U.S.C., the Census Bureau is legally forbidden to share any information collected under this SORN. Access to records maintained in the system is restricted to Census Bureau employees and certain individuals authorized by Title 13, U.S. Code (designated as Special Sworn Status individuals). These individuals are subject to the same confidentiality requirements as regular Census Bureau employees.

POLICIES AND PRACTICES FOR STORAGE OF RECORDS:

Records (including, but not limited to, sound and video files of surveys, focus groups, and cognitive interviews, or electronic datasets) will be stored in a secure computerized system and electronic or magnetic media; output data will be either electronic files or paper copies. Paper copies and electronic or magnetic media will be stored in a secure area within a locked drawer or cabinet. Data sets may be accessed only by authorized personnel. Control lists will be used to limit access to those employees with a need to know; rights will be granted based on job functions.

POLICIES AND PRACTICES FOR RETRIEVAL OF RECORDS:

Staff producing final statistical products will have access only to data sets from which direct identifiers were deleted and replaced by a unique non-identifying code (a Protected Identification Key (PIK)) internal to the Census Bureau and to data sets covered by COMMERCE/CENSUS-8, Statistical Administrative Records System, where direct identifiers have been deleted and replaced by a PIK. For additional information on the PIK, see the COMMERCE/CENSUS-8, Statistical Administrative Records System. A limited number of sworn Census Bureau staff are permitted to retrieve records containing direct identifiers (such as a name or SSN). Records in this system of records may also be linked to COMMERCE/CENSUS-3, Demographic Survey Collection (Census Bureau Sampling Frame) (name change from COMMERCE/CENSUS-3, Special Censuses, Surveys, and Other Studies pending publication in the Federal Register); COMMERCE/CENSUS-4, Economic Survey Collection; COMMERCE/CENSUS-5, Decennial Census Programs; COMMERCE/CENSUS-8, Statistical Administrative Records System; COMMERCE/CENSUS-9, Longitudinal Employer-Household Dynamics System; and COMMERCE/CENSUS-12, Foreign Trade Statistics where records may be retrieved by a PIK or an identifier common to all eight systems of records to conduct approved special research projects with limited access by individuals with Special Sworn Status and Census Bureau staff.

POLICIES AND PRACTICES FOR RETENTION AND DISPOSAL OF RECORDS:

Records are retained in accordance with the General Records Schedule and Census Bureau's records control schedules that are approved by the National Archives and Records Administration (NARA) as applicable or are retained in accordance with agreements developed with sponsoring agencies. The Census Bureau issues an Annual Safeguard Activity Report that includes information on the retention and disposal of federal administrative record source data. Permanent data will be archived at the Census Bureau.

ADMINISTRATIVE, TECHNICAL, AND PHYSICAL SAFEGUARDS:

The Census Bureau is committed to respecting respondent privacy and protecting confidentiality. Through the Data Stewardship Program, we have implemented management, operational, and technical controls, and practices to ensure high-level data protection to respondents of other agency surveys conducted by the Census Bureau.

(1) A policy against unauthorized browsing protects respondent information from casual or inappropriate use by any individual with access to Census Bureau data. Unauthorized browsing is defined as the act of searching or looking through, for other than work-related purposes, protected personal or business-related information that directly or indirectly identifies individuals or businesses. Unauthorized browsing is prohibited.

(2) All Census Bureau employees and individuals with Special Sworn Status permitted to access the system are subject to the restrictions, penalties, and prohibitions of the sponsoring agency's protection statutes (including, but not limited to the Confidential Information Protection and Statistical Efficiency Act (CIPSEA) of 2002 (Pub. L. 107-347)), and provisions of the Privacy Act, as applicable. Data maintained in this system of records is subject to the restrictions, penalties, and prohibitions of the sponsoring agency's statutes. If it is determined individuals with Special Sworn Status require access, they will undergo the appropriate background checks and be required to sign the Census Bureau's affidavit of non-disclosure.

(3) All Census Bureau employees and individuals with Special Sworn Status will be advised of regulations governing the confidentiality of the data and will be required to complete Data Stewardship Awareness Training annually.

(4) All Census Bureau computer systems that maintain sensitive information are in compliance with the Federal Information Security Management Act (FISMA), as amended (44 U.S.C. 3551-3559), which includes auditing and implementing controls over restricted data.

(5) The use of unsecured telecommunications to transmit individually identifiable information is prohibited.

(6) Paper copies that contain sensitive information are stored in secure facilities in a locked drawer or file cabinet behind a locked door.

(7) Additional data files containing direct identifiers will be maintained for the purpose of data collection activities (such as respondent contact and pre-loading an instrument for a continued interview) or for approved special research projects and will not be transferred to, or maintained on, working statistical files.

RECORD ACCESS PROCEDURES:

None.

CONTESTING RECORD PROCEDURES:

None.

NOTIFICATION PROCEDURES:

None.

EXEMPTIONS PROMULGATED FOR THE SYSTEM:

It is the Census Bureau's policy and practice to conduct statistical studies under 13 U.S.C. 8(b) for those agencies that, by law, maintain and use the data solely for statistical purposes and make no determinations from the records as to any identifiable individual. Pursuant to 5 U.S.C. 552a(k)(4), this system of records is exempted from subsections (c)(3); (d); (e)(1); (e)(4)(G), (H), and (I); and (f) of the Privacy Act. These subsections include, but are not limited to, certain requirements concerning notification, access, and contest procedures. This exemption is made in accordance with the Department's rules which appear in 15 CFR part 4 subpart B.

HISTORY:

67 FR 66611, November 1, 2002, Notice of Proposed Amendment to Privacy Act System of Records.

Jennifer Goode,
Deputy Director and Acting Director, Office of Privacy and Open Government, U.S. Department of Commerce.

[FR Doc. 2022-16367 Filed 7-29-22; 8:45 am]

BILLING CODE 3510-07-P